DEPARTMENT OF THE INTERIOR

National Indian Gaming Commission

Fee Rate and Fingerprint Fees

AGENCY: National Indian Gaming Commission, Interior.

ACTION: Notice.

SUMMARY: Notice is hereby given that the National Indian Gaming Commission has adopted its annual fee rates of 0.00% for tier 1 and 0.062% (.00062) for tier 2, which remain the same as current fee rates. These rates shall apply to all assessable gross revenues from each gaming operation under the jurisdiction of the Commission. If a tribe has a certificate of self-regulation, the fee rate on Class II revenues shall be 0.031% (.00031) which is one-half of the annual fee rate.

The Commission may need to reassess these rates during the year, as well as the fee collection processes laid out in its regulations. This reassessment includes the Commission considering actions to potentially increase fee rates before November 2021, promulgate changes to the provisions described in the Commission's Fees regulations, and/or other potential measures to address the agency's budget planning. These potential measures will not be implemented before the third quarter payment due date, will comply with the Indian Gaming Regulatory Act's existing requirements, and will be done in consultation with tribal governments as outlined in the Agency's policies on government-to-government consultation. The annual fee rates being adopted here are effective November 23, 2020 and will remain in effect until new rates are adopted.

The National Indian Gaming Commission has also adopted its fingerprint processing fee of $45 per card effective November 13, 2020. The increase from the current $22 per card is necessary to update the NIGC's fingerprint system and network (equipment cost) and implement additional measures required to ensure compliance with Federal Bureau of Investigation requirements. The fingerprint processing fee being adopted here is effective November 13, 2020, and will remain in effect until the Commission adopts a new rate.

FOR FURTHER INFORMATION CONTACT: Yvonne Lee, National Indian Gaming Commission, 1849 C Street NW, Mail Stop #1621, Washington, DC 20240; telephone (202) 632-7003; fax (202) 632-7066.

SUPPLEMENTARY INFORMATION: The Indian Gaming Regulatory Act (IGRA) established the National Indian Gaming Commission, which is charged with regulating gaming on Indian lands.

Commission regulations (25 CFR 514) provide for a system of fee assessment and payment that is self-administered by gaming operations. Pursuant to those regulations, the Commission is required to adopt and communicate assessment rates and the gaming operations are required to apply those rates to their revenues, compute the fees to be paid, report the revenues, and remit the fees to the Commission. All gaming operations within the jurisdiction of the Commission are required to self-administer the provisions of these regulations, and report and pay any fees that are due to the Commission.

Pursuant to 25 CFR 514, the Commission must also review annually the costs involved in processing fingerprint cards and set a fee based on fees charged by the Federal Bureau of Investigation and costs incurred by the Commission. Commission costs include Commission personnel, supplies, equipment costs, and postage to submit the results to the requesting tribe.

Dated: January 13, 2021.
E. Sequoyah Simermeyer,
Chairman.
Dated: January 12, 2021.
Kathryn C. Isom-Clause,
Vice Chair.

[FR Doc. 2021-01772 Filed 1-26-21; 8:45 am]

BILLING CODE 7565-01-P